DEPARTMENT OF TRANSPORTATION

Federal Aviation Administration

14 CFR Part 39

[Docket No. 2000-NM-420-AD]

RIN 2120-AA64

Airworthiness Directives; Saab Model SAAB SF340A Series Airplanes

AGENCY: Federal Aviation Administration, DOT.

ACTION: Supplemental notice of proposed rulemaking; reopening of comment period.

SUMMARY: This document revises an earlier proposed airworthiness directive (AD), applicable to certain Saab Model SAAB SF340A series airplanes, that would have required replacement of certain air recirculation fans in the flight compartment and the passenger compartment. These fans may be replaced with either upgraded fans with new brushes having insulation on the brush leads or with modified fans having new, brushless motors. That proposal was prompted by issuance of mandatory continuing airworthiness information by a foreign civil airworthiness authority. This new action revises the proposed rule by requiring modification of the fan support structure prior to installation of the upgraded fans. The actions specified by this new proposed AD are intended to prevent incidents of smoke or a burning smell in the cabin during flight, caused by incorrect brush insulation in the motors of the air recirculation fans in the flight compartment and the passenger compartment.

DATES: Comments must be received by April 29, 2002.

ADDRESSES: Submit comments in triplicate to the Federal Aviation Administration (FAA), Transport Airplane Directorate, ANM-114, Attention: Rules Docket No. 2000-NM-420-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2000-NM-420-AD” in the subject line and need not be submitted in triplicate. Comments sent via the Internet as attached electronic files must be formatted in Microsoft Word 97 for Windows or ASCII text.

The service information referenced in the proposed rule may be obtained from Saab Aircraft AB, SAAB Aircraft Product Support, S-581.88, Linköping, Sweden. This information may be examined at the FAA, Transport Airplane Directorate, 1601 Lind Avenue, SW., Renton, Washington.

FOR FURTHER INFORMATION CONTACT: Gary Lium, Aerospace Engineer, International Branch, ANM-116, FAA, Transport Airplane Directorate, 1601 Lind Avenue, SW., Renton, Washington 98055-4056; telephone (425) 227-1112; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2000-NM-420-AD.” The postcard will be date stamped and returned to the commenter.

Availability of NPRMs

Any person may obtain a copy of this NPRM by submitting a request to the FAA, Transport Airplane Directorate, ANM-114, Attention: Rules Docket No. 2000-NM-420-AD, 1601 Lind Avenue, SW., Renton, Washington 98055-4056.

Discussion

A proposal to amend part 39 of the Federal Aviation Regulations (14 CFR part 39) to add an airworthiness directive (AD), applicable to Saab Model SAAB SF340A series airplanes was published as a notice of proposed rulemaking (NPRM) in the Federal Register on June 29, 2001 (66 FR 34589). That NPRM would have required replacement of the air recirculation fans in the flight compartment and the passenger compartment with either upgraded fans with new brushes having insulation on the brush leads or with modified fans having new, brushless motors. That NPRM was prompted by information from the Luftfartsverket (LFV), which is the airworthiness authority for Sweden, that incorrect brush insulation used in the motors of the air recirculation fans for the flight compartment and the passenger compartment has produced smoke or a burning smell in the cabin on a number of occasions. Such incorrect brush insulation in the motors of the air recirculation fans in the flight compartment and the passenger compartment could result in additional incidents of smoke or a burning smell in the cabin during flight.

Actions Since Issuance of Previous Proposal

Shortly after the FAA issued NPRM Docket No. 2000-NM-420-AD, the FAA received notification that the LFV had issued Swedish airworthiness directive SAD No. 1-160 R1, dated June 13, 2001, which cancelled SAD No. 1-160, dated August 24, 2000. The revised Swedish airworthiness directive required performance of actions in accordance with SAAB Service Bulletin 340-21-039, Revision 01, dated April 18, 2001. In addition to describing procedures for removing the air recirculation fans and replacing them with upgraded air recirculation fans with new brushes having insulation on the brush leads, the service bulletin describes procedures for a modification to the support structure for the flight compartment air recirculation fan. The fan support structure must be modified because the new brushes on the upgraded fans make the fan housing slightly longer. The longer housing interferes with the existing fan support structure. Therefore, the existing support structure must be modified by making a small cut-out in the structure prior to installing the upgraded fan.

Conclusion

Since this change expands the scope of the originally proposed rule by proposing additional work for the operators, the FAA has determined that it is necessary to reopen the comment period to provide additional opportunity for public comment.

Cost Impact

The FAA estimates that 35 airplanes of U.S. registry would be affected by this proposed AD and that the average labor rate is $60 per work hour.

It would take approximately 4 work hours per airplane to accomplish the proposed removal of the two air recirculation fans having part number (P/N) C209-690B, C209-690B1, or C209-690C and their replacement with two upgraded air recirculation fans having P/N C209-690D. Based on this figure, the cost impact of the proposed replacement on U.S. operators is estimated to be $8,400, or $240 per airplane.

It would take approximately another 3 work hours per airplane to accomplish the proposed modification of the fan support structure. Based on these figures, the cost impact of the proposed modification on U.S. operators is estimated to be $6,300, or $180 per airplane.

It would take approximately 2 work hours per airplane to accomplish the proposed optional modification of the two air recirculation fans by installing new, brushless motors. The cost of the brushless motors is $38,000 per airplane. Based on this figure, the cost impact of the proposed optional modification on U.S. operators is estimated to be $38,120 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

SAAB Aircraft AB: Docket 2000-NM-420-AD.

Applicability: Model SAAB SF340A series airplanes, serial numbers -004 through—108, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent incidents of smoke or a burning smell in the cabin during flight caused by incorrect brush insulation in the motors of the air recirculation fans in the flight compartment and the passenger compartment, accomplish the following:

Replacement

(a) Within 1,000 flight hours after the effective date of this AD: Perform either paragraph (a)(1) or (a)(2) of this AD.

(1) Remove the two air recirculation fans having part number (P/N) C209-690B, C209-690B1, or C209-690C, modify the structure of the fan support, and replace the fans with two upgraded air recirculation fans having P/N C209-690D, in accordance with the Accomplishment Instructions of Saab Service Bulletin 340-21-039, Revision 01, dated April 18, 2001.

Note 2: The upgraded fans are larger than the original fans and will interfere with the structure of the fan support. A modification to the structure of the fan support to include a small cutout is contained in Paragraph 2.C. of Saab Service Bulletin 340-21-039, Revision 01.

Note 3: The modification to the structure of the fan support to include a small cutout is also described in Saab Service Bulletin 340-21-001, Revision 1, dated February 20, 1985. For those airplanes on which the requirements of paragraph (a)(1) have been performed prior to the effective date of this AD, modification of the structure of the fan support to include a small cutout in accordance with that service bulletin is acceptable as a means of compliance with the applicable requirements of paragraph (a)(1) of this AD.

(2) Remove the two air recirculation fans having P/N C209-690B, C209-690B1, or C209-690C, and replace the fans with two modified air recirculation fans with brushless motors having P/N 9302882-002, in accordance with the Accomplishment Instructions of Saab Service Bulletin 340-21-018, Revision 02, dated June 21, 2000.

Spares

(b) As of the effective date of this AD, no air recirculation fans having P/N C209-690B, C209-690B1, or C209-690C may be installed on any airplane.

Alternative Methods of Compliance

(c) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 5: The subject of this AD is addressed in Swedish airworthiness directive 1-160 R1, dated June 13, 2001.

Issued in Renton, Washington, on March 27, 2002.
Kalene C. Yanamura,
Acting Manager, Transport Airplane Directorate, Aircraft Certification Service.

[FR Doc. 02-7992 Filed 4-2-02; 8:45 am]

BILLING CODE 4910-13-P